DEPARTMENT OF COMMERCE

National Oceanic and Atmospheric Administration

RIN 0648-XD304

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Groundfish Oversight Committee to consider actions affecting New England fisheries in the exclusive economic zone (EEZ). Recommendations from this group will be brought to the full Council for formal consideration and action, if appropriate.

DATES: This meeting will be held on Monday, June 9, 2014 at 9 a.m.

ADDRESSES: The meeting will be held at the Hampton Inn & Suites, 2100 Post Road, Warwick, RI 02886; telephone: (401) 739-8888; fax: (401) 739-1550.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The Council's Groundfish Oversight Committee will meet primarily to discuss alternatives under development in Amendment 18 (A18) and Framework Adjustment 52 (FW 52). Specifically, the Committee will discuss draft alternatives for consideration in A18, review work from the Groundfish Plan Development Team (PDT) related to A18, and develop recommendations to the Council on the A18 alternatives to include in the DEIS for analysis. The Committee will also discuss draft alternatives for consideration in FW 52, review work from the PDT related to FW 52, and possibly make recommendations to the Council on preferred FW 52 alternatives. The Committee will also discuss possible items for inclusion in Framework Adjustment 53, which will be initiated at the June Council meeting. In addition, the Committee may discuss other business as necessary.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: May 19, 2014.
Tracey L. Thompson,
Acting Deputy Director, Office of Sustainable Fisheries, National Marine Fisheries Service.

[FR Doc. 2014-11849 Filed 5-21-14; 8:45 am]

BILLING CODE 3510-22-P